DEPARTMENT OF JUSTICE

National Institute of Corrections

Advisory Board Meeting

TIME AND DATE: 8:00 a.m.-4:30 p.m. on Monday, December 10, 2012, 8:00 a.m.-12:00 p.m. on Tuesday, December 11, 2012.

PLACE: Federal Bureau of Prisons, 500 First Street NW., Washington, DC 20534, (202) 514-4222.

MATTERS TO BE CONSIDERED: Directors Report; review of outcomes of August 22-23, 2012 Advisory Board Hearing (Balancing Fiscal Challenges, Performance Based Budgeting, and Public Safety), presentations, future planning.

CONTACT PERSON FOR MORE INFORMATION: Shaina Vanek, Executive Assistant, (202) 514-4222.

Morris L. Thigpen, Sr.,
Director, National Institute of Corrections.

[FR Doc. 2012-27933 Filed 11-16-12; 8:45 am]

BILLING CODE 4410-36-M